NATIONAL SCIENCE FOUNDATION

Business and Operations Advisory Committee; Notice of Meeting

In accordance with Federal Advisory Committee Act (Pub. L. 92-463, as amended), the National Science Foundation (NSF) announces the following meeting:

Name and Committee Code: Business and Operations Advisory Committee (9556).

Date and Time: December 6, 2017; 1:00 p.m. to 5:30 p.m. (EST); December 7, 2017; 8:00 a.m. to 12:00 p.m. (EST).

Place: National Science Foundation, 2415 Eisenhower Avenue, Alexandria, Virginia 22314; Rooms E 2020 & E 2030.

Type of Meeting: Open.

Contact Person: Joan Miller, National Science Foundation, 2415 Eisenhower Avenue, Alexandria, VA 22314; (703) 292-8200.

Purpose of Meeting: To provide advice concerning issues related to the oversight, integrity, development and enhancement of NSF's business operations.

Agenda

Wednesday, December 6, 2017; 1:00 p.m.-5:30 p.m.

Welcome/Introductions; BFA/OIRM/OLPA/Budget Updates; Subcommittee on NSF's Strengthened Oversight of Large Facility Cost Surveillance; Shared Services: Best Practices and Case Studies; Meeting with Dr. Ferrini-Mundy; Tour of Alexandria Headquarters.

Thursday, December 7, 2017; 8:00 a.m.-12:00 p.m.

Update: Committee on Equal Opportunities in Science and Engineering; Strategic Coordination of NSF's Participation and Outreach with External Organizations; Modernizing NSF; Results from 2017 Federal Employees Viewpoint Survey and Maximizing Employee Performance; Committee Business/Wrap Up.

Dated: November 13, 2017.
Crystal Robinson,
Committee Management Officer.

[FR Doc. 2017-24841 Filed 11-15-17; 8:45 am]

BILLING CODE 7555-01-P